DEPARTMENT OF COMMERCE

National Oceanic and Atmospheric Administration

50 CFR Part 679

[Docket No. 041126332-5039-02; I.D. 112204C]

Fisheries of the Exclusive Economic Zone Off Alaska; Gulf of Alaska; Final 2005 and 2006 Harvest Specifications for Groundfish; Correction

AGENCY: National Marine Fisheries Service (NMFS), National Oceanic and Atmospheric Administration (NOAA), Commerce.

ACTION: Final rule; correction.

SUMMARY: This document corrects a February 24, 2005, final rule that implements 2005 and 2006 harvest specifications, reserves, and apportionments thereof, Pacific halibut prohibited species catch (PSC) limits, and associated management measures for the groundfish fishery of the Gulf of Alaska (GOA). Specifically, this document corrects errors in Tables 12 and 13 to the final specifications.

DATES: Effective at 1200 hrs, Alaska local time (A.l.t.), February 24, 2005, through 2400 hrs, A.l.t., December 31, 2006.

ADDRESSES: Copies of the Final Environmental Assessment and Final Regulatory Flexibility Analysis prepared for this action are available from Alaska Region, NMFS, P.O. Box 21668, Juneau, AK 99802, Attn: Lori Durall, or from the Alaska Region website at www.fakr.noaa.gov.

Copies of the final 2004 Stock Assessment and Fishery Evaluation report for the groundfish resources of the GOA, dated November 2004, are available from the North Pacific Fishery Management Council, West 4th Avenue, Suite 306, Anchorage, AK 99510-2252, (907-271-2809) or from its website at www.fakr.noaa.gov/npfmc.

FOR FURTHER INFORMATION CONTACT: Mary Furuness, 907-586-7228, or e-mail at mary.furuness@noaa.gov.

SUPPLEMENTARY INFORMATION: NMFS published 2005 and 2006 harvest specifications, reserves, and apportionments thereof, Pacific halibut PSC limits, and associated management measures for the groundfish fishery of the GOA on February 24, 2005 (70 FR 8958). That rule lists sideboard limitations for non-exempt American Fisheries Act catcher vessels in the GOA. This document corrects the final rule by reflecting accurately all of the allocations and seasons for 2005 and 2006.

Correction

As published, final rule FR Doc. 05-3581, February 24, 2005 (70 FR 8958) contains errors and needs to be corrected. This action corrects Table 12 (70 FR 8972) and Table 13 (70 FR 8973) to change the dates for the pollock seasons. For the A Season, the dates are January 20 - March 10, and for the C Season, the dates are August 25 - October 1. The corrected Table 13 changes the species names for the second allocation for shortraker rockfish to rougheye rockfish and for the big and longnose skates allocation to longnose skates. Both tables are corrected and reprinted below for the convenience of all interested readers.

Table 12—Final 2005 GOA Non-Exempt American Fisheries Act Catcher Vessel (CV) Groundfish Harvest Sideboard Limitations
(Values are in metric tons)
Species | Apportionments and allocations by area/season/processor/gear | Ratio of 1995-1997 non-exempt AFA CV catch to 1995-1997 TAC | 2005 TAC | 2005 non-exempt AFA catcher vessel sideboard
Pollock | A Season (W/C areas only) January 20 - March 10 |  |  |
| Shumagin (610) | 0.6112 | 5,035 | 3,077
| Chirikof (620) | 0.1427 | 11,692 | 1,668
| Kodiak (630) | 0.2438 | 4,148 | 1,011
| B Season (W/C areas only) March 10 - May 31 |  |  |
| Shumagin (610) | 0.6112 | 5,035 | 3,077
| Chirikof (620) | 0.1427 | 13,820 | 1,972
| Kodiak (630) | 0.2438 | 2,021 | 493
| C Season (W/C areas only) August 25 - October 1 |  |  |
| Shumagin (610) | 0.6112 | 10,155 | 6,207
| Chirikof (620) | 0.1427 | 4,446 | 634
| Kodiak (630) | 0.2438 | 6,274 | 1,530
| D Season (W/C areas only) October 1 - November 1 |  |  |
| Shumagin (610) | 0.6112 | 10,155 | 6,207
| Chirikof (620) | 0.1427 | 4,446 | 634
| Kodiak (630) | 0.2438 | 6,275 | 1,530
| Annual |  |  |
| WYK (640) | 0.3499 | 1,688 | 591
| SEO (650) | 0.3499 | 6,520 | 2,281
Pacific cod | A Season¹ January 1 - June 10 |  |  |
| W inshore | 0.1423 | 8,471 | 1,205
| W offshore | 0.1026 | 941 | 97
| C inshore | 0.0722 | 13,547 | 978
| C offshore | 0.0721 | 1,505 | 109
| B Season² September 1 - December 31 |  |  |
| W inshore | 0.1423 | 5,647 | 804
| W offshore | 0.1026 | 628 | 64
| C inshore | 0.0722 | 9,031 | 652
| C offshore | 0.0721 | 1,003 | 72
| Annual |  |  |
| E inshore | 0.0079 | 3,294 | 26
| E offshore | 0.0078 | 366 | 3
Flatfish deep-water | W | 0.0000 | 330 | 0
| C | 0.0670 | 3,340 | 224
| E | 0.0171 | 3,150 | 54
Rex sole | W | 0.0010 | 1,680 | 2
| C | 0.0402 | 7,340 | 295
| E | 0.0153 | 3,630 | 56
Flathead sole | W | 0.0036 | 2,000 | 7
| C | 0.0261 | 5,000 | 131
| E | 0.0048 | 3,390 | 16
Flatfish shallow-water | W | 0.0156 | 4,500 | 70
| C | 0.0598 | 13,000 | 777
| E | 0.0126 | 3,240 | 41
Arrowtooth flounder | W | 0.0021 | 8,000 | 17
| C | 0.0309 | 25,000 | 773
| E | 0.0020 | 5,000 | 10
Sablefish | W trawl gear | 0.0000 | 508 | 0
| C trawl gear | 0.0720 | 1,450 | 104
| E trawl gear | 0.0488 | 307 | 15
Pacific ocean perch | W | 0.0623 | 2,567 | 160
| C | 0.0866 | 8,535 | 739
| E | 0.0466 | 2,473 | 115
Shortraker rockfish | W | 0.0000 | 155 | 0
| C | 0.0237 | 324 | 8
| E | 0.0124 | 274 | 3
Rougheye rockfish | W | 0.0000 | 188 | 0
| C | 0.0237 | 557 | 13
| E | 0.0124 | 282 | 3
Other rockfish | W | 0.0034 | 40 | 0
| C | 0.2065 | 300 | 62
| E | 0.0000 | 330 | 0
Northern rockfish | W | 0.0003 | 808 | 0
| C | 0.0336 | 4,283 | 144
Pelagic shelf rockfish | W | 0.0001 | 377 | 0
| C | 0.0000 | 3,067 | 0
| E | 0.0067 | 1,109 | 7
Thornyhead rockfish | W | 0.0308 | 410 | 13
| C | 0.0308 | 1,010 | 31
| E | 0.0308 | 520 | 16
Big skates | W | 0.0090 | 727 | 7
| C | 0.0090 | 2,463 | 22
| E | 0.0090 | 809 | 7
Longnose skates | W | 0.0090 | 66 | 1
| C | 0.0090 | 1,972 | 18
| E | 0.0090 | 780 | 7
Other skates | GW | 0.0090 | 1,327 | 12
Demersal shelf rockfish | SEO | 0.0020 | 410 | 1
Atka mackerel | Gulfwide | 0.0309 | 600 | 19
Other species | Gulfwide | 0.0090 | 13,871 | 125
¹The Pacific cod A season for trawl gear does not open until January 20.
²The Pacific cod B season for trawl gear closes November 1.

Table 13—Final 2006 GOA Non-Exempt American Fisheries Act Catcher Vessel (CV) Groundfish Harvest Sideboard Limitations
(Values are in metric tons)
Species | Apportionments and allocations by area/season/processor/gear | Ratio of 1995-1997 non-exempt AFA CV catch to 1995-1997 TAC | 2006 TAC | 2006 non-exempt AFA catcher vessel sideboard
Pollock | A Season (W/C areas only) January 20 - March 10 |  |  |
| Shumagin (610) | 0.6112 | 5,047 | 3,085
| Chirikof (620) | 0.1427 | 11,719 | 1,672
| Kodiak (630) | 0.2438 | 4,159 | 1,014
| B Season (W/C areas only) March 10 - May 31 |  |  |
| Shumagin (610) | 0.6112 | 5,047 | 3,085
| Chirikof (620) | 0.1427 | 13,852 | 1,977
| Kodiak (630) | 0.2438 | 2,026 | 494
| C Season (W/C areas only) August 25 - October 1 |  |  |
| Shumagin (610) | 0.6112 | 10,179 | 6,221
| Chirikof (620) | 0.1427 | 4,457 | 636
| Kodiak (630) | 0.2438 | 6,289 | 1,533
| D Season (W/C areas only) October 1 - November 1 |  |  |
| Shumagin (610) | 0.6112 | 10,179 | 6,221
| Chirikof (620) | 0.1427 | 4,457 | 636
| Kodiak (630) | 0.2438 | 6,288 | 1,533
| Annual |  |  |
| WYK (640) | 0.3499 | 1,691 | 592
| SEO (650) | 0.3499 | 6,520 | 2,281
Pacific cod | A Season¹ January 1 - June 10 |  |  |
| W inshore | 0.1423 | 7,450 | 1,060
| W offshore | 0.1026 | 828 | 85
| C inshore | 0.0722 | 11,914 | 860
| C offshore | 0.0721 | 1,324 | 95
| B Season² September 1 - December 31 |  |  |
| W inshore | 0.1423 | 4,967 | 707
| W offshore | 0.1026 | 552 | 51
| C inshore | 0.0722 | 7,944 | 574
| C offshore | 0.0721 | 882 | 64
| Annual |  |  |
| E inshore | 0.0079 | 2,897 | 23
| E offshore | 0.0078 | 322 | 3
Flatfish deep-water | W | 0.0000 | 330 | 0
| C | 0.0670 | 3,340 | 224
| E | 0.0171 | 3,150 | 54
Rex sole | W | 0.0010 | 1,680 | 2
| C | 0.0402 | 7,340 | 295
| E | 0.0153 | 3,630 | 56
Flathead sole | W | 0.0036 | 2,000 | 7
| C | 0.0261 | 5,000 | 131
| E | 0.0048 | 3,212 | 15
Flatfish shallow-water | W | 0.0156 | 4,500 | 70
| C | 0.0598 | 13,000 | 777
| E | 0.0126 | 3,240 | 41
Arrowtooth flounder | W | 0.0021 | 8,000 | 17
| C | 0.0309 | 25,000 | 773
| E | 0.0020 | 5,000 | 10
Sablefish | W trawl gear | 0.0000 | 481 | 0
| C trawl gear | 0.0720 | 1,374 | 99
| E trawl gear | 0.0488 | 291 | 14
Pacific ocean perch | W | 0.0623 | 2,525 | 157
| C | 0.0866 | 8,375 | 725
| E | 0.0466 | 2,392 | 111
Shortraker rockfish | W | 0.0000 | 155 | 0
| C | 0.0237 | 324 | 8
| E | 0.0124 | 274 | 3
Rougheye rockfish | W | 0.0000 | 188 | 0
| C | 0.0237 | 557 | 13
| E | 0.0124 | 282 | 3
Other rockfish | W | 0.0034 | 40 | 0
| C | 0.2065 | 300 | 62
| E | 0.0000 | 330 | 0
Northern rockfish | W | 0.0003 | 755 | 0
| C | 0.0336 | 3,995 | 134
Demersal shelf rockfish | SEO | 0.0020 | 410 | 1
Atka mackerel | Gulfwide | 0.0309 | 600 | 19
Other species | Gulfwide | 0.0090 | 13,525 | 122
¹The Pacific cod A season for trawl gear does not open until January 20.
²The Pacific cod B season for trawl gear closes November 1.

All other information previously published remains the same.

Authority: 16 U.S.C. 1801 et seq.

Dated: March 7, 2005.
Rebecca Lent
Deputy Assistant Administrator for Regulatory Programs, National Marine Fisheries Service.

[FR Doc. 05-4838 Filed 3-10-05; 8:45 am]

BILLING CODE 3510-22-S